DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending March 2, 2013. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-1999-6663.

Date Filed: February 26, 2013.

Due Date for Answers, Conforming Applications, or Motion To Modify Scope: March 19, 2013.

Description: Application of United Parcel Service Co. (“UPS”) requesting renewal of its certificate of public convenience and necessity for Route 569, which authorizes UPS to engage in foreign air transportation of property and mail over the following U.S.-Mexico city-pair route segments: Austin, Texas-Monterrey; Houston, Texas-Mexico City; Louisville, Kentucky-Guadalajara; Louisville, Kentucky-Mexico City; Louisville, Kentucky-Monterrey; San Antonio, Texas-Guadalajara; and San Antonio, Texas-Monterrey.

Barbara J. Hairston,
Acting Program Manager, Docket Operations, Federal Register Liaison.

[FR Doc. 2013-05880 Filed 3-13-13; 8:45 am]

BILLING CODE 4910-9X-P